DEPARTMENT OF HEALTH AND HUMAN SERVICES

Centers for Disease Control and Prevention

Solicitation of Nominations for Appointment to the Advisory Board on Radiation and Worker Health for the Energy Employees Occupational Illness Compensation Program Act of 2000.

ACTION: Notice.

SUMMARY: The Centers for Disease Control and Prevention (CDC) is seeking nominations for membership on the Advisory Board on Radiation and Worker Health (ABRWH) for the Energy Employees Occupational Illness Compensation Program Act of 2000 (EEOICPA). The ABRWH consists of not more than 20 members appointed by the President of the United States, and shall reflect a balance of scientific, medical, and worker perspectives.

Nominations are being sought for individuals who have expertise and qualifications necessary to contribute to the accomplishments of the ABRWH's objectives. Nominees will be appointed based on their demonstrated qualifications, professional experience, and knowledge of issues the ABRWH may be asked to consider. Federal employees will not be considered for membership.

DATES: Nominations for individuals to serve on the ABRWH must be submitted (postmarked, if sending by mail; submitted electronically; or received, if hand delivered) no later than November 16, 2022. Packages received after this time will not be considered.

ADDRESSES: Nominations may be submitted, including attachments, by any of the following methods below:

• Electronically: Email: (recommended) to Nancy Adams, dcas@cdc.gov (Specify in the email subject line, “Advisory Board on Radiation and Worker Health Nomination”); or

• Mail: Express Delivery, hand delivery messenger, or courier service: Submit one copy of all required documents to the following address: Nancy Adams, ABRWH, Office of the Director, National Institute of Occupational Safety and Health, Centers for Disease Control and Prevention, 395 E Street SW, Suite 9200, Patriots Plaza, Washington, DC 20201.

Follow-up communications with nominees may occur as necessary throughout the process.

FOR FURTHER INFORMATION CONTACT: Nancy Adams, National Institute for Occupational Safety and Health (NIOSH), (202) 321-9956, dcas@cdc.gov (specify in the email subject line, “Advisory Board on Radiation and Worker Health Nomination”).

SUPPLEMENTARY INFORMATION: The Centers for Disease Control and Prevention (CDC) invites interested parties to submit nominations for individuals to serve on the ABRWH for the Energy Employees Occupational Illness Compensation Program Act of 2000. The ABRWH was established pursuant to section 3624 of Public Law 106-398, and section 4 of Executive Order 13179, “Providing Compensation to America's Nuclear Weapons Workers,” dated December 7, 2000. The ABRWH is governed by the provisions of the Federal Advisory Committee Act, Public Law 92-463, as amended (5 U.S.C. App. 2), which sets forth standards for the formation and use of advisory committees. The statutory authority for the ABRWH is codified at 42 U.S.C. 7384o. The ABRWH currently operates under Executive Order 13889, dated March 22, 2022.

Section 4(b) of Executive Order 13179 establishes that the ABRWH shall provide advice to the Secretary, HHS on (1) the development of guidelines to assess the likelihood that an individual with cancer sustained the cancer in the performance of duty at a Department of Energy (DOE) or an Atomic Weapons Employer (AWE) facility, and methods for arriving at and providing reasonable estimates of the radiation doses received by individuals applying for assistance under this program for whom there are inadequate records of radiation exposure; (2) the scientific validity and quality of dose reconstruction efforts performed for purposes of the compensation program; and (3) upon request by the Secretary, HHS, whether there is a class of employees at any DOE or AWE facility who were exposed to radiation but for whom it is not feasible to estimate their radiation dose, and on whether there is reasonable likelihood that such radiation dose may have endangered the health of members of the class. More information on the ABRWH is available at https://www.cdc.gov/niosh/ocas/ocasadv.html.

As required by 42 U.S.C. 7384o(a)(2), the President shall make appointments to the Board in consultation with organizations with expertise on worker health issues in order to ensure that the membership of the Board reflects a balance of scientific, medical, and worker perspectives. The U.S. Department of Health and Human Services (HHS) policy stipulates that committee membership shall be made without discrimination on the basis of race, color, sex, religion, ethnicity, age, disability, gender, sexual orientation, gender identity, HIV status, genetic information, cultural, religious, or socioeconomic status. Minorities, women, and people with disability are encouraged to submit their nomination. Nominees must be U.S. citizens, and cannot be full-time employees of the U.S. government. Current participation on Federal workgroups or prior experience serving on a Federal advisory committee does not disqualify a candidate; however, HHS policy is to avoid excessive individual service on advisory committees and multiple committee memberships. ABRWH members are Special Government Employees (SGEs), requiring the filing of financial disclosure reports, and they serve with compensation and may receive reimbursement for travel expenses for their attendance at ABRWH meetings, including per diem in lieu of subsistence, as authorized by the Federal travel regulations. The activities of the ABRWH may necessitate its members to obtain a top-secret security clearance.

HHS may consider representation of a nominee's knowledge, experience, and expertise in the fields of health physics, industrial hygiene, toxicology, epidemiology, occupational medicine, or the worker perspective in the nuclear facilities spanning the operationally and geographically diverse DOE and AWE facilities covered by the EEOICPA programs; or familiarity, experience, or history of participation with the EEOICPA program. Any interested person or organization may nominate one or more individuals for membership. Interested persons are also invited and encouraged to submit statements in support of nominees.

The ABRWH consists of not more than 20 members appointed by the President of the United States. As required by 42 U.S.C. 7384o(a)(2), the President makes appointments to the ABRWH in consultation with organizations with expertise on worker health issues in order to ensure that the membership of the ABRWH reflects a balance of scientific, medical, and worker perspectives. As required by 42 U.S.C. 7384o(a)(3), the President designates a Chair for the ABRWH from among its members. The authorizing statutory provision under 42 U.S.C. 7384o and section 4 of Executive Order 13179 do not include a limit for terms of appointment for ABRWH members.

Nomination Process: Any interested person or organization may nominate one or more qualified individuals for membership. If you would like to nominate an individual or yourself for appointment to the ABRWH, please submit the following information:

• The nominee's contact information (name, title, business address, business phone, fax number, and/or business email address) and current employment or position.

• A copy of the nominee's resume or curriculum vitae; category of membership (e.g., scientific, medical, and/or worker perspective) that the nominee represents; a summary of the background, experience, and qualifications that addresses the nominee's suitability for the nominated membership category identified above.

• Articles or other documents the nominee has authored that indicate the nominee's knowledge, experience, and expertise in the fields of health physics, industrial hygiene, toxicology, epidemiology, occupational medicine, or the worker perspective in the nuclear facilities covered by the EEOICPA program; or familiarity, experience, or history of participation with the EEOICPA program. Nominations may be submitted by the candidate him or herself, or by the person/organization recommending the candidate.

• At least one letter of recommendation from person(s) not employed by the U.S. Department of Health and Human Services. Candidates may submit letter(s) from current HHS employees if they wish, but at least one letter must be submitted by a person not employed by an HHS agency (e.g., CDC, NIH, FDA, etc.).

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-22456 Filed 10-14-22; 8:45 am]

BILLING CODE 4163-18-P